MARINE MAMMAL COMMISSION

Sunshine Act Notice

Time and Date: The Marine Mammal Commission and its Committee of Scientific Advisors on Marine Mammals will hold a public meeting on Wednesday, 5 April 2017, from 10:30 a.m. to 5:30 p.m.; Thursday, 6 April 2017, from 8:30 a.m. to 5:30 p.m.; Friday, 7 April 2017, from 8:30 a.m. to 4:00 p.m. The Commission and the Committee also will meet in executive session on Wednesday, 5 April 2017, 8:00 to 10:00 a.m.

Place: Ballroom I and II of the Sea Crest Beach Hotel, 350 Quaker Rd., North Falmouth, Massachusetts.

Status: The executive session will be closed to the public in accordance with the provisions of the Government in the Sunshine Act (5 U.S.C. 552b) and applicable regulations. The session will be limited to discussions of internal agency practices, personnel, and the budget of the Commission. All other portions of the meeting will be open to the public. Public participation will be allowed as time permits and as determined to be desirable by the Chairman.

Matters To Be Considered: The Commission and Committee will meet in public session to discuss a broad range of marine mammal science and conservation policy issues, with a particular focus on pinniped and large whales scientific and policy issues in the Northeast. The agenda for the meeting is posted on the Commission's Web site at www.mmc.gov/events-meetings-and-workshops/marine-mammal-commission-annual-meetings/2017-annual-meeting/.

Contact Person For More Information: Luis F. Leandro, Director of Communications and External Affairs, Marine Mammal Commission, 4340 East-West Highway, Room 700, Bethesda, MD 20814; (301) 504-0087; email: mmc@mmc.gov.

Dated: March 8, 2017.
Rebecca J. Lent,
Executive Director.

[FR Doc. 2017-05317 Filed 3-15-17; 4:15 pm]

BILLING CODE 6820-31-P